DEPARTMENT OF ENERGY

Federal Energy Regulatory Commission

[Project No. 14985-001]

Lower Coosawattee Hydroelectric Project, LLC; Notice of Application Tendered for Filing With the Commission and Soliciting Additional Study Requests and Cooperating Agencies and Establishing Procedural Schedule for Licensing and Deadline for Submission of Final Amendments

Take notice that the following hydroelectric application has been filed with the Commission and is available for public inspection.

a. Type of Application: Major License.

b. Project No.: 14985-001.

c. Date Filed: June 2, 2021.

d. Applicant: Cherokee Rivers Company, LLC.

e. Name of Project: Lower Coosawattee Hydroelectric Project (Lower Coosawattee Project).

f. Location: The proposed project would be located at the U.S. Army Corps of Engineers' (Corps) Carter's Reregulation Dam on the Coosawattee River, in Murray County, Georgia.

g. Filed Pursuant to: Federal Power Act, 16 U.S.C. 791(a)-825(r).

h. Applicant Contact: Robert Davis, Cherokee Rivers Company, LLC, 390 Timber Laurel Lane, Lawrenceville, GA 30043; Telephone (470) 331-8238; hydrowatt@comcast.net.

i. FERC Contact: Dustin Wilson at (202) 502-6528, or at dustin.wilson@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 2, 2021.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Lower Coosawattee Hydroelectric Project (P 14985-001).

m. This application is not ready for environmental analysis at this time.

n. Project Description: The proposed project would use the existing Corps' Carters Reregulation Dam and would consist of: (1) An intake structure with trash racks and gates, on the south end of the dam; (2) four 350-foot-long penstocks running through the non-overflow portion of the earthen dam, combining into (3) a double box culvert conduit; (4) a powerhouse containing two generating units, with a combined capacity of 4.5 megawatts; and (5) a 450-foot-long transmission line. The proposed project would have an estimated average annual generation of 16,500 megawatt-hours, and operate run-of-release using surplus water from the Carter's Reregulation Dam, as directed by the Corps.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-14985-001). At this time, the Commission has suspended access to the Commission's Public Reference Room due to the proclamation declaring a National Emergency concerning the Novel Coronavirus Disease (COVID-19) issued by the President on March 13, 2020. For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. Procedural Schedule and final amendments: The application will be processed according to the following preliminary Schedule. Revisions to the schedule will be made as appropriate.

Issue Deficiency Letter—August 2021

Issue Acceptance Letter—November 2021

Issue Scoping Document—December 2021

Request Additional information (if necessary)—February 2021

Notice of Ready for Environmental Analysis—March 2021

Final amendments to the application must be filed with the Commission no later than 30 days from the issuance date of the notice of ready for environmental analysis.

Dated: June 15, 2021.
Kimberly D. Bose,
Secretary.

[FR Doc. 2021-13374 Filed 6-23-21; 8:45 am]

BILLING CODE 6717-01-P